DEPARTMENT OF HEALTH AND HUMAN SERVICES

Food and Drug Administration

21 CFR Part 172

[Docket No. 1999F-0719]

Food Additives Permitted for Direct Addition to Food for Human Consumption; Olestra; Correction

AGENCY: Food and Drug Administration, HHS.

ACTION: Final rule; correction.

SUMMARY: The Food and Drug Administration (FDA) is correcting a final rule that appeared in the Federal Register of May 24, 2004 (69 FR 29428). The final rule amended the food additive regulations to allow for the safe use of olestra as a replacement for fats and oils in prepackaged, unpopped popcorn kernels that are ready-to-heat. The initial action was in response to a food additive petition (FAP) filed by the Procter and Gamble Co. The final rule published with an inadvertent error. This document corrects that error.

EFFECTIVE DATE: July 7, 2004.

FOR FURTHER INFORMATION CONTACT: Joyce A. Strong, Office of Policy (HF-27), Food and Drug Administration, 5600 Fishers Lane, Rockville, MD 20857, 301-827-7010.

SUPPLEMENTARY INFORMATION: In FR Doc. 04-11502, appearing on page 29428 in the Federal Register of May 24, 2004, the following correction is made:

1. On page 29429, under SUPPLEMENTARY INFORMATION, in the second column, in the first line of the first complete paragraph, the phrase “noted in the FAP” is corrected to read “noted in the notice of filing”.

Dated: July 1, 2004.
Jeffrey Shuren,
Assistant Commissioner for Policy.

[FR Doc. 04-15424 Filed 7-6-04; 8:45 am]

BILLING CODE 4160-01-S